SUSQUEHANNA RIVER BASIN COMMISSION

Public Hearing

AGENCY: Susquehanna River Basin Commission.

ACTION: Notice.

SUMMARY: The Susquehanna River Basin Commission will hold a public hearing on May 4, 2023. The Commission will hold this hearing in person and telephonically. At this public hearing, the Commission will hear testimony on the projects listed in the Supplementary Information section of this notice. Such projects are intended to be scheduled for Commission action at its next business meeting, tentatively scheduled for June 15, 2023, which will be noticed separately. The public should note that this public hearing will be the only opportunity to offer oral comments to the Commission for the listed projects. The deadline for the submission of written comments is May 15, 2023.

DATES: The public hearing will convene on May 4, 2023, at 6:30 p.m. The public hearing will end at 9 p.m. or at the conclusion of public testimony, whichever is earlier. The deadline for submitting written comments is Monday, May 15, 2023.

ADDRESSES: This public hearing will be conducted in person and virtually. You may attend in person at Susquehanna River Basin Commission, 4423 N Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.net.

Information concerning the project applications is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor: Biglerville Borough Authority. Project Facility: Biglerville Borough Water Company, Biglerville Borough and Butler Township, Adams County, Pa. Application for renewal of groundwater withdrawal of up to 0.112 mgd (30-day average) from Well 7 (Docket No. 19930503).

2. Project Sponsor and Facility: Blackhill Energy LLC (Susquehanna River), Ulster Township, Bradford County, Pa. Application for surface water withdrawal of up to 3.024 mgd (peak day).

3. Project Sponsor and Facility: Chesapeake Appalachia, L.L.C. (Sugar Creek), North Towanda Township, Bradford County, Pa. Application for renewal of surface water withdrawal of up to 0.999 mgd (peak day) (Docket No. 20180602).

4. Project Sponsor and Facility: Chesapeake Appalachia, L.L.C. (Susquehanna River), Asylum Township, Bradford County, Pa. Application for surface water withdrawal of up to 3.000 mgd (peak day).

5. Project Sponsor: Coal Mountain Development and Recreation LLC. Project Facility: Eagles Ridge Golf Course, Ferguson Township, Clearfield County, Pa. Application for renewal of consumptive use of up to 0.099 mgd (30-day average) (Docket No. 20080613).

6. Project Sponsor and Facility: Dillsburg Area Authority, Carroll Township, York County, Pa. Application for renewal of groundwater withdrawal of up to 0.460 mgd (30-day average) from Well 7 (Docket No. 20070907).

7. Project Sponsor: Glenn O. Hawbaker, Inc. Project Facility: Naginey Facility (Naginey Quarry Processing Pond), Armagh Township, Mifflin County, Pa. Modification to increase groundwater withdrawal (30-day average) by an additional 0.425 mgd, for a total groundwater withdrawal of up to 0.725 mgd (Docket No. 20211204).

8. Project Sponsor: Hazleton City Authority. Project Facility: Delano Division, Mahanoy Township, Schuylkill County, Pa. Application for groundwater withdrawal of up to 0.275 mgd (30-day average) from Park Place Well 1.

9. Project Sponsor and Facility: Hillandale-Gettysburg, L.P., Tyrone Township, Adams County, Pa. Application for groundwater withdrawal of up to 0.050 mgd (30-day average) from Well 5.

10. Project Sponsor and Facility: LDG Innovation, LLC (Tioga River), Lawrenceville Borough, Tioga County, Pa. Application for renewal of surface water withdrawal of up to 0.750 mgd (peak day) (Docket No. 20180603).

11. Project Sponsor: Milton Hershey School. Project Facility: Spring Creek Golf Course, Derry Township, Dauphin County, Pa. Application for renewal of consumptive use of up to 0.081 mgd (peak day) (Docket No. 20080615).

12. Project Sponsor and Facility: Mountain Energy Services, Inc. (Tunkhannock Creek), Tunkhannock Township, Wyoming County, Pa. Application for renewal of surface water withdrawal of up to 1.498 mgd (peak day) (Docket No. 20180605).

13. Project Sponsor: New Enterprise Stone & Lime Co., Inc. Project Facility: Laflin Quarry, Plains Township, Luzerne County, Pa. Applications for consumptive use (peak day) of up to 0.040 mgd and groundwater withdrawals (30-day averages) of up to 0.110 mgd from Well 1, 0.132 mgd from Well 2, 0.484 mgd from Well 3, 0.110 mgd from Well 4, 0.209 mgd from Well 5, and 0.209 mgd from Well 6.

14. Project Sponsor and Facility: Nicholas Meat, LLC, Greene Township, Clinton County, Pa. Applications for groundwater withdrawals (30-day averages) of up to 0.288 mgd from Well WS-1, 0.173 mgd from Well WS-3, and 0.144 mgd from Well WS-4.

15. Project Sponsor and Facility: Northeast Marcellus Aqua Midstream I, LLC (Susquehanna River), Tunkhannock Township, Wyoming County, Pa. Application for renewal of surface water withdrawal of up to 5.000 mgd (peak day) (Docket No. 20200919).

16. Project Sponsor and Facility: Pennsylvania General Energy Company, L.L.C. (Pine Creek), Watson Township, Lycoming County, Pa. Application for renewal of surface water withdrawal of up to 0.918 mgd (peak day) (Docket No. 20180608).

17. Project Sponsor and Facility: Pilgrim's Oak Golf Course (Peters Creek and Unnamed Tributary to Peters Creek), Drumore Township, Lancaster County, Pa. Applications for renewal of surface water withdrawal of up to 0.237 mgd (peak day) and consumptive use of up to 0.237 mgd (30-day average) (Docket No. 19980505).

18. Project Sponsor and Facility: Pro-Environmental, LLC (Martins Creek), Lathrop Township, Susquehanna County, Pa. Application for renewal of surface water withdrawal of up to 0.999 mgd (peak day) (Docket No. 20180609).

19. Project Sponsor and Facility: Repsol Oil & Gas USA, LLC (Fall Brook), Troy Township, Bradford County, Pa. Application for renewal of surface water withdrawal of up to 0.176 mgd (peak day) (Docket No. 20180610).

20. Project Sponsor and Facility: Repsol Oil & Gas USA, LLC (Unnamed Tributary to North Branch Sugar Creek), Columbia Township, Bradford County, Pa. Application for renewal of surface water withdrawal of up to 0.926 mgd (peak day) (Docket No. 20180611).

21. Project Sponsor and Facility: State College Borough Water Authority, Benner Township, Centre County, Pa. Applications for renewal of groundwater withdrawals (30-day averages) of up to 2.160 mgd from Well 62, 0.720 mgd from Well 63, 0.850 mgd from Well 64, and 0.720 mgd from Well 65 (Docket No. 19920102).

22. Project Sponsor and Facility: Sugar Hollow Water Services LLC (Bowman Creek), Eaton Township, Wyoming County, Pa. Application for renewal of surface water withdrawal of up to 0.249 mgd (peak day) (Docket No. 20180612).

23. Project Sponsor and Facility: Susquehanna Gas Field Services, LLC (Susquehanna River), Meshoppen Township, Wyoming County, Pa. Application for renewal of surface water withdrawal of up to 1.650 mgd (peak day) (Docket No. 20180614).

24. Project Sponsor and Facility: SWN Production Company, LLC (Cowanesque River), Deerfield Township, Tioga County, Pa. Application for surface water withdrawal of up to 1.500 mgd (peak day).

25. Project Sponsor and Facility: Titanium Metals Corporation (TIMET), Caernarvon Township, Berks County, Pa. Application for renewal of consumptive use of up to 0.177 mgd (30-day average) (Docket No. 20080616).

26. Project Sponsor and Facility: Town Big Flats, Chemung County, N.Y. Applications for renewal with an increase of groundwater withdrawals (30-day averages) of up to 0.577 mgd from WD 2-Well 1 and 0.365 mgd from WD 2-Well 2 (Docket No. 19910304).

27. Project Sponsor and Facility: Town of Erwin, Steuben County, N.Y. Application for groundwater withdrawal of up to 1.440 mgd (30-day average) from Well 7.

Commission-Initiated Project Approval Modification

28. Project Sponsor and Facility: Village of Oxford, Town of Oxford, Chenango County, N.Y. Conforming the grandfathered amount with the forthcoming determination for groundwater withdrawals (30-day averages) of up to 0.402 mgd from Well 1 and 0.099 mgd from Well 2 (Docket No. 20040601).

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.net before the hearing date. The presiding officer reserves the right to limit oral statements in the interest of time and to control the course of the hearing otherwise. Access to the hearing via telephone will begin at 6:15 p.m. Guidelines for the public hearing are posted on the Commission's website, www.srbc.net, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before Monday, May 15, 2023, to be considered.

Authority: Pub. L. 91-575, 84 Stat. 1509 et seq., 18 CFR parts 806, 807, and 808.

Dated: April 6, 2023.
Jason E. Oyler,
General Counsel and Secretary to the Commission.

[FR Doc. 2023-07602 Filed 4-11-23; 8:45 am]

BILLING CODE 7040-01-P